DEPARTMENT OF HEALTH AND HUMAN SERVICES

Centers for Disease Control and Prevention

[60Day-03-104]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Lessons Learned from Emergency Medical Responses to Chemically-Contaminated Patients—New—Agency for Toxic Substances and Disease Registry (ATSDR). Since the September 11, 2001, World Trade Center Attack, there has been increased interest in improving medical preparedness for contaminated casualties. Anecdotal evidence and observations from non-chemical disasters suggests that medical planning may be based on some assumptions that are invalid. For example, planning is often based on the following assumptions: (1) That victims will be decontaminated by first responders on the scene; (2) that victims will be transported by ambulances that can be directed to a hospital designated for contaminated casualties; and (3) that hospitals will receive advance notice that casualties will be arriving, so that special preparations can me made to receive them (e.g., lining floors and walls with plastic tarps; donning respirators and chemical resistant clothing).

We propose assessing 10 incidents over a three-year period involving patients treated at hospitals for actual or possible contamination by chemicals which could pose a threat of illness or injury to the hospital staff that treat them. Data will be collected not only from hospitals but from other emergency medical and public safety organizations, and even members of the public who have become involved in the response. This is because the actions of these groups can have a profound effect on how hospitals carry out their emergency tasks. The lessons-learned during these responses will be collected by a field research team using semi-structured, open-ended interviews of those involved in the responses, for example: patients and their families, hospital staff, police, firefighters, emergency medical technicians, emergency dispatchers, and others who have knowledge of the response.

Certain standardized data will also be collected, such as: number of victims, chemical identity, distribution of casualties among area hospitals, time of incident, time of hospital notification, type of protective clothing and respiratory protection used by hospital staff. A review of the existing field disaster research literature has failed to identify other studies that have collected this type of information. The results of the project will be used to develop and update training materials for hospitals and other emergency responders. There are no costs to respondents.

Respondents | Number of respondents | Number of responses per respondent | Average burden per response (in hours) | Total burden (in hours)
Emergency Responders | 100 | 2 | 1 | 200
Patients and/or Family | 40 | 2 | 1 | 80
Total |  |  |  | 280

Dated: July 31, 2003.
Thomas A. Bartenfeld,
Acting Associate Director for Policy, Planning and Evaluation, Centers for Disease Control and Prevention.

[FR Doc. 03-19979 Filed 8-5-03; 8:45 am]

BILLING CODE 4163-18-P